DEPARTMENT OF EDUCATION

Negotiated Rulemaking Committee; Public Hearings; Correction

AGENCY: Office of Postsecondary Education, Department of Education.

ACTION: Intent to establish a negotiated rulemaking committee; correction.

SUMMARY: On March 24, 2023, the Department of Education (Department) published in the Federal Register a notice of our intent to establish one or more negotiated rulemaking committee(s), which may include a subcommittee, to prepare proposed regulations for the Federal Student Aid programs authorized under title IV of the Higher Education Act of 1965, as amended (HEA). We are correcting the deadline for written comments through the Federal eRulemaking portal to April 24, 2023. All other information in the notice remains the same.

DATES: This correction is applicable on April 4, 2023.

FOR FURTHER INFORMATION CONTACT: Ashley Clark, U.S. Department of Education, 400 Maryland Ave. SW, Room 2C-185, Washington, DC 20202. Telephone: (202) 453-7977. Email: ashley.clark@ed.gov.

If you are deaf, hard of hearing, or have a speech disability and wish to access telecommunications relay services, please dial 7-1-1.

SUPPLEMENTARY INFORMATION: On March 24, 2023, we published a notice of our intent to establish a negotiated rulemaking committee in the Federal Register (88 FR 17777). In this, we indicated that the deadline for written public comments through the Federal eRulemaking portal is April 14, 2023. However, we are correcting the deadline for written comments to April 24, 2023.

All other information in the notice remains the same.

Correction

In FR Doc. 2023-06028 appearing on page 17777 of the Federal Register published on March 24, 2023, we make the following correction:

On page 17778, under PUBLIC HEARINGS, we are revising the date that we will accept written comments via the Federal eRulemaking portal to be: April 24, 2023.

Program Authority: 20 U.S.C. 1098a.

Accessible Format: On request to the contact person listed under FOR FURTHER INFORMATION CONTACT, individuals with disabilities can obtain this notice and intent to establish a negotiated rulemaking committee in an accessible format. The Department will provide the requestor with an accessible format that may include Rich Text Format (RTF) or text format (txt), a thumb drive, an MP3 file, Braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at this site.

You may also access documents of the Department published in the Federal Register by using the article search feature at www.federalregister.gov. Specifically, through the advanced search feature at this site, you can limit your search to documents published by the Department.

Nasser H. Paydar,
Assistant Secretary for Postsecondary Education.

[FR Doc. 2023-06913 Filed 4-3-23; 8:45 am]

BILLING CODE 4000-01-P